DEPARTMENT OF LABOR

Employment and Training Administration

[TA-W-53,051]

JacksonLea, Santa Fe Springs, California; Notice of Termination of Investigation

Pursuant to section 221 of the Trade Act of 1974, an investigation was initiated on September 30, 2003, in response to a petition filed by a company official on behalf of workers at JacksonLea, Santa Fe Springs, California.

The petitioner has requested that the petition be withdrawn. Consequently, the investigation has been terminated.

Signed in Washington, DC, this 14th day of October, 2003.
Elliott S. Kushner,
Certifying Officer, Division of Trade Adjustment Assistance.

[FR Doc. 03-29121 Filed 11-20-03; 8:45 am]

BILLING CODE 4510-30-P